SECURITIES AND EXCHANGE COMMISSION

[File No. 500-1]

In the Matter of Treaty Energy Corporation; Order of Suspension of Trading

December 22, 2014.

It appears to the Securities and Exchange Commission that there is a lack of current and accurate information concerning the securities of Treaty Energy Corporation (“Treaty Energy”) because it has not filed a periodic report since its Form 10-Q for the period ending September 30, 2013. Treaty Energy is a Nevada corporation based in New Orleans, Louisiana, and its common stock is quoted on the OTC Link (previously “Pink Sheets”) operated by OTC Markets Group, Inc. under the ticker symbol TECO.

The Commission is of the opinion that the public interest and the protection of investors require a suspension of trading in the securities of the above-listed company.

Therefore, it is ordered, pursuant to Section 12(k) of the Securities Exchange Act of 1934, that trading in the securities of Treaty Energy Corporation is suspended for the period from 9:30 a.m. EST on December 22, 2014, through 11:59 p.m. EST on January 6, 2015.

By the Commission.
Jill M. Peterson,
Assistant Secretary.

[FR Doc. 2014-30296 Filed 12-22-14; 11:15 am]

BILLING CODE 8011-01-P